DEPARTMENT OF HOMELAND SECURITY

U.S. Customs and Border Protection

Accreditation and Approval of Thionville Surveying Company, Inc., as a Commercial Gauger and Laboratory

AGENCY: U.S. Customs and Border Protection, Department of Homeland Security.

ACTION: Notice of accreditation and approval of Thionville Surveying Company, Inc., as a commercial gauger and laboratory.

SUMMARY: Notice is hereby given, pursuant to CBP regulations, that Thionville Surveying Company, Inc. has been approved to gauge animal and vegetable oils and accredited to test certain animal and vegetable oils for customs purposes for the next three years as of May 14, 2014.

DATES: Effective Dates: The accreditation and approval of Thionville Surveying Company, Inc., as commercial gauger and laboratory became effective on May 14, 2014. The next triennial inspection date will be scheduled for May 2017.

FOR FURTHER INFORMATION CONTACT: Approved Gauger and Accredited Laboratories Manager, Laboratories and Scientific Services Directorate, U.S. Customs and Border Protection, 1331 Pennsylvania Avenue NW., Suite 1500N, Washington, DC 20229, tel. 202-344-1060.

SUPPLEMENTARY INFORMATION: Notice is hereby given pursuant to 19 CFR 151.12 and 19 CFR 151.13, that Thionville Surveying Company, Inc., 5440 Pepsi Street, Harahan, LA 70123, has been approved to gauge animal and vegetable oils and accredited to test certain animal and vegetable oils for customs purposes, in accordance with the provisions of 19 CFR 151.12 and 19 CFR 151.13. Thionville Surveying Company, Inc. is approved for the following gauging procedures for animal and vegetable oils per the National Institute of Oilseed Products (NIOP) standards:

CBPL No. | Method | Title
n/a | NIOP 5.10.5 | Weight Determination/Gauging.

Thionville Surveying Company, Inc. is accredited for the following laboratory analysis procedures and methods for certain animal and vegetable oils set forth by the U.S. Customs and Border Protection Laboratory Methods (CBPL), the International Standards Organization (ISO), and the American Oil Chemists' Society (AOCS):

CBPL No. | ASTM | Title
15-02 | AOCS Ca 5a-40 | Free Fatty Acids.
n/a | AOCS Ce 2-66 | Preparation of Methyl Esters of Fatty Acids.
n/a | AOCS Ce 1a-13 | Determination of Fatty Acids in Edible Oils and Fats by Capillary GLC.
n/a | AOCS Ce 1h-05 | Determination of cis-, trans-, Saturated, Monounsaturated and Polyunsaturated Fatty Acids in Vegetable or Non-Ruminant Animal Oils and Fats by Capillary GLC.
n/a | ISO 18301 | Animal and Vegetable fats and oils—Determination of conventional mass per volume (litre weight in air)—Oscillating U-tube method.

Anyone wishing to employ this entity to conduct laboratory analyses and gauger services should request and receive written assurances from the entity that it is accredited or approved by the U.S. Customs and Border Protection to conduct the specific test or gauger service requested. Alternatively, inquiries regarding the specific test or gauger service this entity is accredited or approved to perform may be directed to the U.S. Customs and Border Protection by calling (202) 344-1060. The inquiry may also be sent to cbp.labhq@dhs.gov. Please reference the Web site listed below for a complete listing of CBP approved gaugers and accredited laboratories. http://www.cbp.gov/sites/default/files/documents/gaulist_3.pdf.

Dated: November 18, 2014.
Ira S. Reese,
Executive Director, Laboratories and Scientific Services Directorate.

[FR Doc. 2014-28295 Filed 11-28-14; 8:45 am]

BILLING CODE 9111-14-P